DEPARTMENT OF HEALTH AND HUMAN SERVICES

National Institutes of Health

National Cancer Institute Notice of Closed Meeting

Pursuant to section 10(d) of the Federal Advisory Committee Act, as amended (5 U.S.C. App.), notice is hereby given of the meeting of the NCI-Frederick Advisory Committee.

The meeting will be closed to the public in accordance with the provisions set forth in section 552b(c)(9)(B), Title 5 U.S.C., as amended. The premature disclosure of information to be discussed during the meeting would significantly frustrate implementation of a proposed agency action.

Name of Committee: NCI-Frederick Advisory Committee.

Date: February 4, 2013.

Time: 9:00 a.m. to 5:30 p.m.

Agenda: Discussion of Proposed Frederick National Laboratory for Cancer Research Strategic Plan.

Place: The Lawrence Berkeley National Laboratory—Department of Energy, Perseverance Hall, Building 54, Room 130A, 1 Cyclotron Road, Berkeley, CA 94720.

Contact Person: Thomas M. Vollberg, Sr., Ph.D., Executive Secretary, National Cancer Institute, National Institutes of Health, 6116 Executive Boulevard, 7th Floor, Room 7142, Bethesda, MD 20892-8327, (301) 694-9582.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 14, 2012.
Melanie J. Gray,
Program Analyst, Office of Federal Advisory Committee Policy.

[FR Doc. 2012-30715 Filed 12-20-12; 8:45 am]

BILLING CODE 4140-01-P